DEPARTMENT OF COMMERCE

National Oceanic and Atmospheric Administration

Evaluation of Coastal Zone Management Programs and National Estuarine Research Reserves

AGENCY: Office of Ocean and Coastal Resource Management, National Ocean Service, National Oceanic and Atmospheric Administration (NOAA), DOC.

ACTION: Notice of Intent to Evaluate.

SUMMARY: The NOAA Office of Ocean and Coastal Resource Management (OCRM) announces its intent to evaluate the performance of the Oregon Coastal Management Program, Ohio Coastal Management Program and Old Woman Creek National Estuarine Research Reserve in Ohio, Massachusetts Coastal Management Program and Waquoit Bay National Estuarine Research Reserve in Massachusetts, New Hampshire Coastal Management Program, and the Jacques Cousteau/Mullica River National Estuarine Research Reserve in New Jersey.

The Coastal Zone Management Program evaluations will be conducted pursuant to section 312 of the Coastal Zone Management Act of 1972, as amended, (CZMA) and regulations at 15 CFR part 923, subpart L. The National Estuarine Research Reserve evaluations will be conducted pursuant to sections 312 and 315 of the CZMA and regulations at 15 CFR part 921, subpart E and part 923, subpart L.

The CZMA requires continuing review of the performance of states with respect to coastal program and research reserve program implementation. Evaluation of Coastal Zone Management Programs and National Estuarine Research Reserve requires findings concerning the extent to which a state has met the national objectives, adhered to its Coastal Management Program document or Reserve final management plan approved by the Secretary of Commerce, and adhered to the terms of financial assistance awards funded under the CZMA.

The evaluations will include a site visit, consideration of public comments, and consultations with interested Federal, state and local agencies and members of the public. Public meetings will be held as part of the site visits.

Notice is hereby given of the dates of the site visits for the listed evaluations, and the dates, local times, and locations of the public meetings during the site visits.

The Oregon Coastal Management Program evaluation site visit will be held August 4-8, 2003. One public meeting will be held during the week. The public meeting will be on Wednesday, August 6, 2003, at 7 p.m. at Cannon Beach City Hall, Council Chambers, 163 E. Gower Street, Cannon Beach, Oregon 97110.

The Ohio Coastal Management Program and Old Woman Creek National Estuarine Research Reserve evaluations site visit will be held August 11-15, 2003. Two public meetings will be held during the week. The Ohio Office of Coastal Management public meeting will be on Wednesday, August 13, 2003, at 7 p.m., at the Erie County Commissioner Chambers, 2900 Columbus Avenue, Sandusky, Ohio 44870. The Old Creek National Estuarine Research Reserve public meeting will be on Tuesday, August 12, 2003, at 7 p.m., at the Old Woman Creek NERR Visitors Center, 2514 Cleveland Road E., Huron, Ohio.

The Massachusetts Coastal Management Program and Waquoit Bay National Estuarine Research Reserve evaluation site visit will be held September 8-12, 2003. Two public meetings will be held during the week. The Massachusetts Coastal Management Program public meeting will be on Wednesday, September 10, 2003, at 6 p.m., at the Atrium Level, 251 Causeway Street, Boston, Massachusetts 02114. The Waquoit Bay National Estaurine Research Reserve public meeting will be on Thursday, September 11, 2003, at 5:30 p.m., at the Waquoit Bay Reserve Headquarters, Visitors Center, 149 Waquoit Highway, Waquoit, Massachusetts 02536.

The New Hampshire Coastal Management Program evaluation site visit will be held September 22-24, 2003. One public meeting will be held. The public meeting will be on Tuesday, September 23, 2003, at 7 p.m., Fish and Game Department Region 3 Meeting Room, 225 Main Street, Durham, New Hampshire 03824.

The Jacques Cousteau/Mullica River National Estuarine Research Reserve evaluation site visit will be held September 22-26, 2003. One public meeting will be held during the week. The public meeting will be on Tuesday, September 23, 2003, at 7 p.m., at the Jacques Cousteau Coastal Education Center, 182 Great Bay Boulevard, Tuckerton, New Jersey 08087.

Copies of states' most recent performance reports, as well as OCRM's notifications and supplemental request letters to the states, are available upon request from OCRM. Written comments from interested parties regarding these Programs are encouraged and will be accepted until 15 days after the last public meeting. Please direct written comments to Ralph Cantral, Chief, National Policy and Evaluation Division, Office of Ocean and Coastal Resource Management, NOS/NOAA, 1305 East-West Highway, 10th floor, Silver Spring, Maryland 20910. When the evaluations are completed, OCRM will place a notice in the Federal Register announcing the availability of the Final Evaluation Findings.

FOR FURTHER INFORMATION CONTACT: Ralph Cantral, Chief, National Policy and Evaluation Division, Office of Ocean and Coastal Resource Management, NOS/NOAA, 1305 East-West Highway, Silver Spring, Maryland 20910, (301) 713-3155, Extension 118.

Federal Domestic Assistance Catalog 11.419, Coastal Zone Management Program Administration

Dated: June 19, 2003.
Jamison S. Hawkins,
Deputy Assistant Administrator for Ocean Services and Coastal Zone Management.

[FR Doc. 03-16060 Filed 6-24-03; 8:45 am]

BILLING CODE 3510-08-M